DEPARTMENT OF STATE

[Public Notice 3702]

Bureau of Educational and Cultural Affairs Request for Grant Proposals: American Studies Institute for East Timorese Diplomats

ACTION: Notice; Request for grant proposals (RFGPs).

SUMMARY: The Study of the U.S. Branch, Office of Academic Exchange Programs, Bureau of Educational and Cultural Affairs, announces an open competition for an assistance award. Public and private non-profit organizations meeting the provisions described in IRS regulation 26 CFR 1.501(C) may apply to develop and implement a five-week academic seminar on American Constitutional Government and U.S. Foreign Policy, which will be designed for approximately 10 newly trained East Timorese diplomats.

The program is intended to provide participants with a deeper understanding of Constitutional government in the United States and of American political, economic and social institutions as they relate to the formulation of U.S. foreign policy. The program is five weeks in length and will be conducted during November and December of 2001.

The Bureau is seeking detailed proposals from colleges, universities, consortia of colleges and universities, and other not-for-profit academic organizations that have an established reputation in one or more of the following fields: political science, international relations, law and diplomacy, and other disciplines related to the program theme.

Applicant institutions must demonstrate expertise in conducting post-graduate programs for foreign educators, and must have a minimum of four years experience in conducting international exchange programs. Bureau guidelines stipulate that grants to organizations with less than four years experience in conducting international exchanges are limited to $60,000. As it is expected that the budget for these programs will exceed $60,000, organizations that cannot demonstrate at least four years experience will not be eligible to apply under this competition.

The project director or one of the key program staff responsible for the academic program must have an advanced degree in one of the fields listed above. Staff escorts traveling under the cooperative agreement must have demonstrated qualifications for this service. Programs must conform with Bureau requirements and guidelines outlined in the Solicitation Package. Bureau programs are subject to the availability of funds.

Program Information

Overview and Objectives: East Timor will join the ranks of independent nations late in 2001 with a small staff of foreign office employees. While these individuals will have a basic understanding of diplomacy and ways in which a democracy forges a foreign policy, they will have little practical experience. Accordingly, the goal of this project is to provide a select group of foreign office professionals with an intensive examination of the basics of foreign policy formulation and foreign relations using the U.S. experience as a model. At the end of the institute, participants should better understand the nature of American constitutional government, the requirements of a successful foreign policy, and the ways in which foreign policy in a democratic system is conceived, debated, and formulated by various actors.

The American Studies Institute on American Constitutional Government and U.S. Foreign Policy is thus intended to offer a group of newly-trained East Timorese diplomats with the opportunity to deepen their understanding of Constitutional government in the United States and of how American political, economic and social institutions affect the formulation of U.S. foreign policy.

Ideally, the program should provide participants with a brief overview of the history of the United States and the critical ideas and events that have shaped the development of its democratic institutions; it should examine the fundamental principles and provisions of the U.S. Constitution with reference to its federal character, and to the organization and respective powers of the executive, legislative and judicial branches, with particular attention to the role that each branch plays in the making of U.S. foreign policy; and it should examine the U.S. foreign policy process in light of the interaction of government and non-government organizations, including the various departments and bureaucracies of government, as well as a range of such organizations as think tanks, lobbies, the media, and other NGOs. Throughout the program, foreign policy issues relating to security, trade and political matters should be discussed with reference to the U.S.-Asia relationship generally, and with reference to Indonesia and East Timor affairs in particular.

The program should be approximately five weeks in length and must include an academic residency segment of at least three weeks duration at a college or university campus (or other appropriate location). A study tour segment of not more than two weeks should also be planned and should directly complement the academic residency segment; the study tour should include visits to one or two additional regions of the United States outside the region of the host institution. If the host institution is outside the Washington, DC area, the travel portion must include at least one week in Washington, DC.

The institute should be designed as an intensive, academically rigorous seminar tailored to the professional needs and interests of what is likely to be the first cohort of diplomats from the new nation of East Timor. It is therefore imperative that the seminar be organized as a coherent and well-integrated series of lectures, seminar discussions, and consultations, combined with regional travel and site visits.

It is further expected that within the limits of the program's thematic focus and organizing framework, proposals will be designed to give participants a multi-dimensional view of U.S. society and institutions that includes a broad and balanced range of perspectives. The program should therefore include not only the views of scholars, teachers and foreign area research specialists, but also those of professionals outside the university such as government officials, journalists, representatives of NGOs and others who can substantively contribute to the topics at issue.

Program Dates: Ideally, the program should be 35 days in length(including participant arrival and departure days) and should begin in early November 2001.

Participants: As specified in the guidelines in the solicitation package, the program should be designed for a group of 10 East Timorese diplomats who will have finished their preliminary professional training in Indonesia prior to the beginning of this five-week seminar. They will be interested in U.S. foreign policy issues, especially as those issues relate to the Asian region generally and to Indonesia and East Timor specifically.At the conclusion of this program, most will be assigned to foreign missions abroad, including the East Timor mission in Washington, DC.

The educational level of the participants will vary. Some will have undergraduate degrees, while others will have completed formal education through the secondary level only. In general, all participants can be expected to have a rudimentary knowledge of American institutions, including the workings of the American government and its foreign policy apparatus.

Some of the participants will be fluent in English; most, however, will know only Bahasa Malayu (Indonesian) and/or Portuguese. Simultaneous translation, which will entail additional program costs for escort/interpreters, will therefore be needed throughout all phases of the program. While the specific language for simultaneous translation will not be known until the final grantee cohort is identified, the program's structure, organization, and schedule of activities, as well as its general program budget, should be developed with this requirement in mind.

Participants will be identified and selected by the United States Embassy in Jakarta.

Proposal Guidelines: While the conception and structure of the institute program is the responsibility of the organizers, it is critically important that proposals provide a full, detailed and comprehensive narrative that clearly describes the objectives of the institute; the title, scope and content of each session; and, how each session relates to the overall institute theme. The syllabus must therefore indicate the subject matter for each lecture or panel discussion, confirm or provisionally identify proposed lecturers and discussants, and clearly show how assigned readings will support each session. A calendar of all activities for the program must also be included. Overall, proposals will be reviewed on the basis of their fullness, coherence, clarity, and attention to detail.

Programs must comply with J-1 visa regulations. Please refer to the Solicitation Package for further details on program design and implementation, as well as additional information on all other requirements.

Budget Guidelines

Based on groups of 10 participants, the total Bureau-funded budget (program and administrative) should be approximately $130,000, and Bureau-funded administrative costs as defined in the budget details section of the solicitation package should be approximately $40,000. Justifications for any costs above these amounts must be clearly indicated in the proposal submission. Proposals should try to maximize cost sharing in all facets of the program and to stimulate U.S. private sector, including foundation and corporate, support. Applicants must submit a comprehensive budget for the entire program. The Bureau reserves the right to reduce, revise, or increase proposal budgets in accordance with the needs of the program, and availability of U.S. government funding.

Special Note: Salary for escort/interpreters will be paid directly by the Department of State and therefore should not be part of the budget submission. However, escort/interpreter housing costs and per diem expenses throughout the program should be included in the budget package as part of general program costs. Two escort/interpreters will be responsible for simultaneous translation throughout the entire five-week program; during the two-week study tour, a third escort/interpreter will join the group to assist organizers in handling additional administrative and logistical duties.

Please refer to the “POGI” in the Solicitation Package for complete institute budget guidelines and formatting instructions.

Announcement Name and Number

All communications with the Bureau concerning this announcement should refer to the following title and reference number:

“American Constitutional Government and U.S. Foreign Policy”—ECA/A/E/USS-01-20-Bate

FOR FURTHER INFORMATION CONTACT: To request a Solicitation Package containing more detailed award criteria, required application forms, specific budget instructions, and standard guidelines for proposal preparation, applicants should contact:U.S. Department of State,Bureau of Educational and Cultural Affairs,Office of Academic Exchange Programs,Study of the U.S. Branch,State Annex 44,ECA/A/E/USS—Room 252,301 4th Street, SW.,Washington, DC 20547, Attention: William Bate.

Telephone number: (202) 619-4562

Fax number: (202) 619-6790

Internet address: wbate@pd.state.gov.

Please specify William Bate on all inquiries and correspondence. Interested applicants should read the complete Federal Register announcement before addressing inquiries to the office listed above or submitting their proposals. Once the RFGP deadline has passed, Bureau staff may not discuss this competition in any way with applicants until after the proposal review process has been completed.

To Download a Solicitation Package Via Internet

The entire Solicitation Package may be downloaded from the Bureau's website at http://exchanges.state.gov/education/rfgps/.Please read all information before downloading.

Deadline for Proposals

All proposal copies must be received at the Bureau of Educational and Cultural Affairs by 5:00 p.m.Washington DC time on Wednesday, August 22, 2001. Faxed documents will NOT be accepted, nor will documents postmarked but received at a later date. It is the responsibility of each applicant to ensure that proposals arrive by the deadline.

Submissions

Applicants must follow all instructions in the Solicitation Package. The original and 13 copies of the complete application should be sent to:U.S. Department of State,Bureau of Educational and Cultural Affairs,Reference: ECA/A/E/USS-01-20-Bate,Program Management Staff, ECA/EX/PM, Room 534,State Annex 44,301 4th Street, SW.,Washington, DC 20547.

Applicants should also submit the “Executive Summary” and “Proposal Narrative” sections of the proposal on a 3.5” diskette, formatted for DOS. This material must be provided in ASCII text(DOS) format with a maximum line length of 65 characters.

Diversity, Freedom and Democracy Guidelines

Pursuant to the Bureau's authorizing legislation, programs must maintain a non-political character and should be balanced and representative of the diversity of American political, social, and cultural life.“Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of this goal in their program contents, to the full extent deemed feasible.

Review Process

The Bureau will acknowledge receipt of all proposals and will review them for technical eligibility. Proposals will be deemed ineligible if they do not fully adhere to the guidelines stated herein and in the Solicitation Package. All eligible proposals will be reviewed by the program office. Eligible proposals will then be forwarded to panels of senior Bureau officers for advisory review. Proposals may also be reviewed by the Office of the Legal Advisor or by other Bureau elements. Final funding decisions are at the discretion of the Department of State's Acting Assistant Secretary for Educational and Cultural Affairs. Final technical authority for assistance awards (grants or cooperative agreements) resides with the Bureau's Grants Officer.

Technically eligible applications will be competitively reviewed according to the criteria stated below. Particular weight will be given to items one and two; all remaining criteria will be evaluated equally.

1. Overall Quality: Proposals should exhibit originality and substance, consonant with the highest standards of American scholarly and professional practice. Program design should be tailored to convey substantive knowledge regarding the U.S. system of government, including its foreign policy processes, to a group whose knowledge of American institutions is rudimentary. Program elements should be coherently and thoughtfully integrated. Lectures, panels, and consultations, taken as a whole, should offer a balanced presentation of issues, reflecting both the continuity of the American experience as well as the diversity and dynamism inherent in it.

2. Program Planning and Administration: Proposals should demonstrate careful planning. The organization and structure of the institute should be clearly delineated and be fully responsive to all program objectives. A program syllabus (noting specific sessions supporting each thematic or academic unit) should be included, as should a calendar of activities. The travel component should not simply be a tour, but should be an integral and substantive part of the program, reinforcing and complementing the academic segment. Proposals should provide evidence of continuous administrative and managerial capacity as well as the means by which program activities and logistical matters will be implemented.

3. Institutional Capacity: Proposed personnel, including faculty and administrative staff as well as outside presenters, should be fully qualified to achieve the project's goals. Library and meeting facilities, housing, meals, transportation and other logistical arrangements should fully meet the needs of participants.

4. Support for Diversity: Substantive support of the Bureau's policy on diversity should be demonstrated. This can be accomplished through documentation, such as a written statement, summarizing past and/or on-going activities and efforts that further the principle of diversity within the organization and its activities. Program activities that address this issue should be highlighted.

5. Experience: Proposals should demonstrate an institutional record of successful exchange program activity, indicating the experience that the organization and its professional staff have had in working with foreign educators.

6. Evaluation and Follow-up: A plan for evaluating activities during the Institute and at its conclusion should be included. Proposals should also discuss provisions made for possible follow-up with returned grantees as a means of establishing longer-term individual and institutional linkages.

7. Cost Effectiveness: Proposals should maximize cost sharing through direct institutional contributions, in-kind support, and other private sector support. Overhead and administrative components of the proposal, including salaries and honoraria, should be kept as low as possible.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations. * * * and thus to assist in the development of friendly, sympathetic and peaceful relations between the United States and the other countries of the world.”

Notice: The terms and conditions published in this RFGP are binding and may not be modified by any Bureau representative.

Explanatory information provided by the Bureau that contradicts published language will not be binding. Issuance of this RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, and allocated and committed through internal Bureau procedures.

Dated: June 14, 2001.
Helena K. Finn,
Acting Assistant Secretary for Educational and Cultural Affairs, U.S. Department of State.

[FR Doc. 01-15541 Filed 6-20-01; 8:45 am]

BILLING CODE 4710-05-U